DEPARTMENT OF EDUCATION

Committee on Measures of Student Success

AGENCY: National Center for Education Statistics, Department of Education.

ACTION: Request for nominations to serve on the Committee on Measures of Student Success.

SUMMARY: At this time, the Secretary of Education invites interested parties to submit nominations for individuals to serve on the Committee on Measures of Student Success.

SUPPLEMENTARY INFORMATION: As mandated by section 485(a)(7)(B) of the Higher Education Act of 1965, as amended by section 488(a)(3)(B) of the Higher Education Opportunity Act (HEOA) (20 U.S.C. 1092(a)(7)(B)), the U.S. Department of Education shall establish the Committee on Measures of Student Success (the Committee). The Committee shall consist of 15 members including representatives from diverse institutions of higher education, experts in the field of higher education policy, State higher education officials, students, and other stakeholders from the higher education community. Committee members will be appointed by the Secretary of Education in consultation with the Commissioner of Education Statistics. The purpose of the Committee will be to develop recommendations for the Secretary of Education regarding: (1) The accurate calculation and reporting of completion or graduation rates of entering certificate- or degree-seeking, full-time, undergraduate students by two-year degree-granting institutions of higher education; (2) additional or alternative measures of student success that are comparable alternatives to the completion or graduation rates of entering degree-seeking full-time undergraduate students, taking into account the mission and role of two-year degree-granting higher education institutions. These recommendations shall be provided to the Secretary no later than 18 months after the first meeting of the Committee.

Nomination Process: Any interested person or organization may nominate one or more qualified individuals for membership. If you would like to nominate an individual or yourself for appointment to the Committee, please submit the following information to the U.S. Department of Education's (the Department's) White House Liaison Office.

• A copy of the nominee's résumé;

• A cover letter that provides your reason(s) for nominating the individual; and

• Contact information for the nominee (name, title, business address, business phone, fax number, and business e-mail address).

In addition, the cover letter must state that the nominee (if nominating someone other than yourself) has agreed to be nominated and is willing to serve on the Committee. Nominees will be appointed based on technical qualifications, professional experience, and demonstrated knowledge of issues related to higher education student success, particularly at two-year institutions, Federal student aid programs, and institutional or State postsecondary longitudinal data systems.

DATES: Nominations for individuals to serve on the Committee on Measures of Student Success must be submitted (postmarked, if sending by mail; submitted electronically; or received, if hand delivered) by October 19, 2009.

ADDRESSES: You may submit nominations, including attachments, by any of the following methods:

• Electronically: Send to: WhiteHouseLiaison@ed.gov (specify in the e-mail subject line, “CMSS Nomination”).

• Mail, express delivery, hand delivery, messenger, or courier service: Submit one copy of the documents listed above to the following address: U.S. Department of Education, White House Liaison Office, 400 Maryland Avenue, SW., Room 7C109, Washington, DC 20202. Attn: Karen Akins.

For questions, contact Karen Akins, White House Liaison Office at (202) 401-3677, fax (202) 205-0723, or via e-mail at WhiteHouseLiaison@ed.gov.

Dated: September 9, 2009.
Arne Duncan,
Secretary of Education.

[FR Doc. E9-22522 Filed 9-17-09; 8:45 am]

BILLING CODE 4000-01-P